DEPARTMENT OF TRANSPORTATION

National Highway Traffic Safety Administration

[Docket No. NHTSA-2004-18714; Notice 1]

Volkswagen of America, Inc., Receipt of Petition for Decision of Inconsequential Noncompliance

Volkswagen of America, Inc. (Volkswagen) has determined that label information on certain vehicles that it produced in 2003 and 2004 does not comply with S5.3 of 49 CFR 571.120, Federal Motor Vehicle Safety Standard (FMVSS) No. 120, “Tire selection and rims for motor vehicles other than passenger cars.” Volkswagen has filed an appropriate report pursuant to 49 CFR Part 573, “Defect and Noncompliance Reports.”

Pursuant to 49 U.S.C. 30118(d) and 30120(h), Volkswagen has petitioned for an exemption from the notification and remedy requirements of 49 U.S.C. Chapter 301 on the basis that this noncompliance is inconsequential to motor vehicle safety.

This notice of receipt of Volkswagen's petition is published under 49 U.S.C. 30118 and 30120 and does not represent any agency decision or other exercise of judgment concerning the merits of the petition.

A total of approximately 23,017 Volkswagen Touareg MPV vehicles produced between November 3, 2003 and July 2, 2004 are affected. S5.3 of FMVSS No. 120, “Label information,” requires that the certification label or a separate tire information label shall show certain information about the tires and rims, as specified in S5.3.1 and S5.3.2. S5.3.1, “Tires,” refers to “The size designation * * * and the recommended cold inflation pressure for those tires. * * *” S5.3.2, “Rims,” refers to “The size designation * * * of Rims * * * appropriate for those tires.” Volkswagen chose to use a separate label on the affected vehicles that does not contain the rim size markings required by S5.3.2.

Volkswagen believes that the noncompliance is inconsequential to motor vehicle safety and that no corrective action is warranted. Volkswagen states the following:

Volkswagen believes that the lack of rim size information on any of the labels does not create a risk to motor vehicle safety because any replacement tires of equivalent size to the factory installed tires or to any factory option tire would be compatible with the factory installed wheel rims. If an owner purchases wheel rims to replace those installed by Volkswagen, the selling dealer would be responsible for advising the owner on the compatible tire and wheel rim combination.

Volkswagen states that no customer complaints have been received regarding the lack of wheel rim size information on the tire pressure information label. Volkswagen has fixed the problem.

Interested persons are invited to submit written data, views, and arguments on the petition described above. Comments must refer to the docket and notice number cited at the beginning of this notice and be submitted by any of the following methods. Mail: Docket Management Facility, U.S. Department of Transportation, Nassif Building, Room PL-401, 400 Seventh Street, SW., Washington, DC, 20590-0001. Hand Delivery: Room PL-401 on the plaza level of the Nassif Building, 400 Seventh Street, SW., Washington, DC. It is requested, but not required, that two copies of the comments be provided. The Docket Section is open on weekdays from 10 a.m. to 5 p.m. except Federal Holidays. Comments may be submitted electronically by logging onto the Docket Management System Web site at http://dms.dot.gov. Click on “Help” to obtain instructions for filing the document electronically. Comments may be faxed to 1-202-493-2251, or may be submitted to the Federal eRulemaking Portal: go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: September 10, 2004.

Authority: (49 U.S.C. 30118, 30120: delegations of authority at CFR 1.50 and 501.8)

Issued on: August 5, 2004.
Kenneth N. Weinstein,
Associate Administrator for Enforcement.

[FR Doc. 04-18298 Filed 8-10-04; 8:45 am]

BILLING CODE 4910-59-P